FEDERAL MARITIME COMMISSION

Ocean Transportation Intermediary License

Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Rye Express Logistics, LLC, 2010 NW 84th Avenue, Miami, FL 33122-1520, Officer: Victor Arana, President (Qualifying Individual).

Transamerica Logistics, Inc., 11511 Katy Freeway, Suite 425, Houston, TX 77079, Officers: Mark T. Cornelius, Vice President (Qualifying Individual), Zulfikar Momin, President.

Cibao Cargo, Inc., 1345 Cromwell Avenue, Bronx, NY 104528, Officer: Jose A. Perdomo, President (Qualifying Individual).

Interway USA, Inc., 510 Sylvan Avenue, Suite #202, Englewood Cliffs, NJ 07632, Officers: Hyo-Sup Shim, President (Qualifying Individual), Young Don Chung, Secretary.

Non-Vessel Operating Common Carrier and Ocean Freight Forwarder Transportation Intermediary Applicants

Casasco & Nardi Inc., 372 Doughty Boulevard, Suite D, Inwood, NY 11096, Officers: Paolo Depasquali, Secretary (Qualifying Individual), Gian Luigi Ravera, President.

Direct Parcel Service Corp. dba DPS Cargo, 3550 NW 113 Ct., Miami, FL 33178, Officers: Milagros Garcia, Vice President (Qualifying Individual), Carlos M. Garcia, President.

Ocean Freight Forwarder—Ocean Transportation Intermediary Applicant

MCI Logistics, 192 Cherry Hill Road NW, Cedar Rapids, IA 52405, Roxann M. Von Lienen, Sole Proprietor.

Dated: November 1, 2002.
Bryant L. VanBrakle,
Secretary.

[FR Doc. 02-28233 Filed 11-5-02; 8:45 am]

BILLING CODE 6730-01-P